DEPARTMENT OF LABOR

Employment and Training Administration

[TA-W-37,586]

Enefco International Limited, Footwear Subdivision, Waterjet Subdivision, Auburn, Maine; Amended Certification Regarding Eligibility To Apply for Worker Adjustment Assistance

In accordance with Section 223 of the Trade Act of 1974 (19 U.S.C. 2273) the Department of Labor issued a Certification of Eligibility to Apply for Worker Adjustment Assistance on July 31, 2000, applicable to all workers of Enefco International Limited, Footwear Subdivision located in Auburn, Maine. The notice will soon be published in the Federal Register.

At the request of the State agency, the Department reviewed the certification for workers of the subject firm. New findings show that the Department's certification inadvertently omitted the workers at the plant in the Waterjet Subdivision. The subject firm reported increased reliance on imports of cushioning pads formerly produced by the sole worker in the Waterjet Subdivision. Accordingly, the Department is amending the certification to include workers in the Waterjet Subdivision Enefco International Limited in Auburn, Maine.

The amended notice applicable to TA-W-37,586 is hereby issued as follows:

All workers of Enefco International Limited, Footwear Subdivision, Waterjet Subdivision, Auburn, Maine, who became totally or partially separated from employment on or after April 7, 1999 through July 31, 2002, are eligible to apply for adjustment assistance under Section 223 of the Trade Act of 1974.

Signed in Washington, D.C., this 18th day of August 2000.
Grant D. Beale,
Program Manager, Division of Trade Adjustment Assistance.

[FR Doc. 00-22326 Filed 8-30-00; 8:45 am]

BILLING CODE 4510-30-M